DEPARTMENT OF AGRICULTURE

Rural Business-Cooperative Service

Intermediary Relending Program; Roundtable Meeting

AGENCY: Rural Business-Cooperative Service, USDA.

ACTION: Notice of Meeting.

SUMMARY: The Agency will hold a roundtable meeting on Wednesday, June 5, 2013, to discuss the Rural Business-Cooperative Service's relending programs. The primary purpose of this roundtable is to discuss recent enhancements to the Intermediary Relending Program (IRP) and fiscal year 2013 funding levels and application procedures.

DATES: The meeting will be held on Wednesday, June 5, 2013, at 1:00 p.m. EDT. To register, please email Deidra Garris at Deidra.garris@wdc.usda.gov.

ADDRESSES: The meeting will be held at 1:00 p.m. EDT on June 5, 2013, at the USDA Graduate School located at 600 Maryland Avenue SW., Washington, DC 20024-2520.

FOR FURTHER INFORMATION CONTACT: Mark Brodziski, Director, Specialty Program Division, USDA, Rural Development, Rural Business—Cooperative Service, Room 4206, South Agriculture Building, STOP 3226, 1400 Independence Avenue SW., Washington, DC 20250-3225, Telephone: (202) 720-1394, email: Mark.Brodziski@wdc.usda.gov.

SUPPLEMENTARY INFORMATION:

Meeting Registration. Anyone interested in the Agency's relending programs is encouraged to attend the meeting. Although registration is encouraged, anyone may attend without pre-registering. Walk-ins will be accommodated to the extent that space permits. To register email Deidra Garris at Deidra.garris@wdc.usda.gov.

Other information. Participants who need a sign language interpreter or other special accommodations should contact Mark Brodziski as identified in the FOR FURTHER INFORMATION CONTACT section of this Notice.

Non-Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Director, Office of Adjudication and Compliance, 1400 Independence Avenue SW., Washington, DC 20250-9410, or call toll-free at (800) 795-3272 (voice) or (202) 720-6382 (TDD). USDA is an equal opportunity provider, employer, and lender.

Dated: May 10, 2013.
Lillian Salerno,
Administrator, Rural Business—Cooperative Service.

[FR Doc. 2013-12867 Filed 6-3-13; 8:45 am]

BILLING CODE 3410-XY-P